DEPARTMENT OF STATE

[Public Notice: 12409]

Proposed Establishment of Federally Funded Research and Development Centers—First Notice

SUMMARY: The United States Department of State (DoS), Bureau of Administration, intends to sponsor Federally Funded Research and Development Centers (FFRDC) to facilitate public-private collaboration for numerous activities related to diplomacy and modernization. This is the first of three notices which must be published over a 90-day period in order to advise the public of the agency's intention to sponsor an FFRDC.

DATES: Written comments must be received by 5 p.m. eastern time on August 15, 2024.

ADDRESSES: Please send any comments by email to Jessalyn Lord at LordJM@state.gov.

FOR FURTHER INFORMATION CONTACT: Jessalyn Lord, LordJM@state.gov at 771-204-1366.

SUPPLEMENTARY INFORMATION: The Department of State leads U.S. engagement around the world building alliances and partnerships; facing up to aggression; aiding and supporting emerging democracies; and preserving U.S. interests abroad. In a rapidly changing world with shifting politics, accelerated economic developments, global challenges such as climate change, and the increasing role digitization plays for both opportunity and threats, the Department is committed to leading through both policy and operational engagement on behalf of the Nation and our Government.

In a letter introducing the Department of State and U.S. Agency for International Development Joint Strategic Plan for 2022-2026, Secretary Blinken stated, “we are working to modernize and equip the Department and USAID to lead on 21st-Century challenges and deliver for the American people.”

Achieving U.S. goals for global leadership over the next decade will require the following:

• A diplomatic corps to use data in new ways to develop more foresight and insight, to inform policy options, to take actions and measure their effectiveness;

• New cross-sector partnerships and coalitions;

• Intergovernmental partnerships with the Department of Defense, the intelligence agencies, the Departments of Commerce, Treasury, Homeland Security, and Health and Human Services, and cross-government Councils (e.g., National Economic Council, National Security Council);

• New capabilities to plan, manage and execute initiatives and programs;

• A workforce that uses digital technology as tools to advance democracy and protect our interests and counter the use of these same technologies as a threat; and

• An organization and operation that is agile and adaptive to a changing environment; attractive to new talent; and fosters long-term commitment between the organization and its people.

The Department requires long-term partnerships with organizations that can bring research, development, innovation, and support needed to guide the leadership and employees through this transformative period in our history. This will allow the Department to focus on the mission at hand, while adopting and integrating changes necessary to make consistent progress on these goals and surge, when needed, to address urgent issues that require data, partnerships, technology and insights applied in near-term operational situations.

To meet this need, the Department seeks to establish and sponsor three (3) FFRDCs. The FFRDCs will be established under the authority of 48 CFR 35.017.

The FFRDCs will be available to provide a wide range of support including, but not limited to the activities listed below. The FFRDCs will be separated into 3 areas:

Operational Support

○ Acquisition Planning and Development

Developing comprehensive acquisition policies and implementation guidance that promote innovation by integrating new technologies, methodologies, and best practices to enhance efficiency and outcomes.

Developing and implementing integrated frameworks that synchronize the acquisition priorities and budgeting lifecycle using advanced data driven methodologies to ensure that acquisition strategies and resource allocation align with strategic objectives.

Executing detailed assessments to analyze and document acquisition requirements, facilitating joint requirements through collaborative tools, and developing detailed requirements through alternative solution analysis, trade-off studies and formal validation processes.

Providing technical expertise and reviewing critical acquisition documents.

Advising on the cost, schedule, and performance aspects of the acquisition program.

○ Operational Analysis and Organizational Innovation

Designing, developing, and executing comprehensive assessments to map existing operational capabilities, identify gaps, and develop actionable plans to bridge the gap between current and desired capabilities, including recommendations for resource allocation, training, and technological upgrades.

Designing, developing and establishing innovative organizational structures and business models that can better support strategic and operational goals using best practices from both public and private sectors to drive innovation.

Providing expert guidance on implementing strategic plans and Key Performance Indicator systems, including scenario planning and the use of contingency strategies to handle potential future challenges.

Designing, evaluating, and refining human resources management frameworks to align with Federal regulations, improve organizational culture, and integrate best practices in workforce analytics.

Emerging Threats, Concept Exploration, Experimentation and Evaluation

○ Developing concepts, models, simulations (for purposes of conceptual experimentation and evaluation, not for operational training), tools and metrics to evaluate system tradeoffs, integration strategies, and support critical decision making.

○ Applying statistical analysis and evaluation techniques.

○ Developing prototypes and proof-of-concept demonstrations.

○ Designing, developing and establishing unique test-beds, laboratories, and other experimentation environments.

○ Evaluating of alternative technologies and capabilities.

Information Technology (IT) and Cyber Operations

○ IT and Communications

Developing and evaluating—

(i) Data processing methodologies including data transmission, storage, retrieval and manipulation

(ii) Computational algorithms, search engine technologies, semantical relationships and non-structured data analytics

(iii) Networking, telecommunications and communications technology

(iv) Computer technologies, cloud services and enterprise applications resource planning

Cyber Operations, Assessment, and Solutions

Leveraging big data analytics and using machine learning to develop comprehensive threat intelligence capabilities that aggregate and analyze threat data from multiple sources to enable the identification of emerging threats and vulnerabilities, facilitating timely and informed decision-making.

Developing of continuous monitoring systems that provide real-time visibility into networks and devices and utilize advanced forensic tools to conduct in-depth investigations into incidents.

Development of data security and risk assessment protocols to safeguard Federal data within Federal systems and in external environments where Federal data is process or stored.

○ Systems Engineering, System Architecture and Integration

Developing and reviewing systems design optimization and trade-space considerations.

Designing and developing of integrating architectures and frameworks for existing and emerging systems and applications.

Applying enterprise systems engineering principles to overall systems integration and aggregation considerations.

The FFRDCs will partner with the Department of State in the design and pursuit of mission goals; provide rapid responsiveness to changing requirements for personnel in all aspects of strategic, technical and program management; recognize Government objectives as its own objectives, partner in pursuit of excellence in public service; and allow for use of the FFRDC by non-sponsors.

The Department is publishing this notice in accordance with 48 CFR 5.205(b) of the Federal Acquisition Regulations (FAR) to enable interested members of the public to provide comments on this proposed action. This is the first of three notices issued under the authority of 48 CFR 5.205(b).

In particular, we are interested in feedback regarding the proposed scope of the work to be performed by the FFRDCs, and the presence of any existing private- or public-sector capabilities in these areas that the Department should be considering.

It is anticipated that the corresponding Request(s) for Proposal (RFP) will be posted on sam.gov in the Summer of 2024.

Alternatively, a copy of the RFP can be obtained by contacting the person listed in the FOR FURTHER INFORMATION CONTACT section above once the RFP is posted.

Michael W. Derrios,
Deputy Assistant Secretary for Acquisition, & Senior Procurement Executive, U.S. Department of State.

[FR Doc. 2024-10842 Filed 5-16-24; 8:45 am]

BILLING CODE 4710-24-P